DEPARTMENT OF TRANSPORTATION

Federal Aviation Administration

14 CFR Part 71

[Docket No. FAA-2017-0855; Airspace Docket No. 17-ANM-17]

RIN 2120-AA66

Amendment of Class D and E Airspace and Revocation of Class E Airspace; Pocatello, ID

AGENCY: Federal Aviation Administration (FAA), DOT.

ACTION: Final rule.

SUMMARY: This action amends controlled airspace at Pocatello Regional Airport, Pocatello, ID, by amending Class D airspace and Class E airspace designated as a surface area; removing Class E airspace designated as an extension to a Class D or E surface area; and amending Class E airspace extending upward from 700 feet above the surface. Also, this action updates the airport's geographic coordinates for the associated Class D and E airspace areas to reflect the FAA's current aeronautical database. Additionally, reference to the Pocatello VHF Omnidirectional Range/Tactical Air Navigation (VORTAC) is removed from the Class E airspace extending upward from 700 feet above the surface description. This action enhances the safety and management of instrument flight rules (IFR) operations at the airport.

DATES: Effective 0901 UTC, July 19, 2018. The Director of the Federal Register approves this incorporation by reference action under Title 1, Code of Federal Regulations, part 51, subject to the annual revision of FAA Order 7400.11 and publication of conforming amendments.

ADDRESSES: FAA Order 7400.11B, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA). For information on the availability of this material at NARA, call (202) 741-6030, or go to https://www.archives.gov/federal-register/cfr/ibr-locations.html.

FAA Order 7400.11, Airspace Designations and Reporting Points, is published yearly and effective on September 15.

FOR FURTHER INFORMATION CONTACT: Tom Clark, Federal Aviation Administration, Operations Support Group, Western Service Center, 2200 S. 216th Street, Des Moines, WA 98198; telephone (206) 231-2253.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies Class D and E airspace at Pocatello Regional Airport, Pocatello, ID, in support of instrument flight rules operations at the airport.

History

On December 19, 2017, the FAA published in the Federal Register (82 FR 60130) Docket FAA-2017-0855, a notice of proposed rulemaking to modify Class D airspace, Class E surface area airspace, Class E airspace designated as an extension, and Class E airspace extending upward from 700 feet above the surface at Pocatello Regional Airport, Pocatello, ID. Interested parties were invited to participate in this rulemaking effort by submitting written comments on the proposal to the FAA. No comments were received.

Class D and E airspace designations are published in paragraph 5000, 6002, 6004, and 6005, respectively, of FAA Order 7400.11B, dated August 3, 2017, and effective September 15, 2017, which is incorporated by reference in 14 CFR 71.1. The Class D and E airspace designations listed in this document will be published subsequently in the Order.

Availability and Summary of Documents for Incorporation by Reference

This document amends FAA Order 7400.11B, Airspace Designations and Reporting Points, dated August 3, 2017, and effective September 15, 2017. FAA Order 7400.11B is publicly available as listed in the ADDRESSES section of this document. FAA Order 7400.11B lists Class A, B, C, D, and E airspace areas, air traffic service routes, and reporting points.

The Rule

The FAA is amending Title 14 Code of Federal Regulations (14 CFR) part 71 by:

Amending Class D airspace at Pocatello Regional Airport, Pocatello, ID, by raising the vertical limit to 7,000 feet (from 6,900 feet) and increasing the airspace south of the airport to a 5.6-mile radius (from a 4.5-mile radius) to laterally protect IFR departures as they climb to 700 feet above the surface, due to rising terrain;

Amending Class E surface area airspace to be coincident with the Class D airspace area;

Removing Class E airspace designated as an extension to a Class D or Class E surface area as it contains no arrival aircraft within 1,000 feet of the surface, and is not necessary;

Amending Class E airspace extending upward from 700 feet above the surface to reduce the area southwest of the airport and slightly increase the area south of the airport. This redesign is necessary to ensure sufficient controlled airspace to contain IFR arrival aircraft within 1,500 feet above the surface and IFR departure aircraft until reaching 1,200 feet above the surface. The VORTAC navigation aid noted in the description is removed, as it no longer defines the boundary of the airspace. In addition, this action establishes airspace extending upward from 1,200 feet above the surface at the airport within 15 miles northwest and 5 miles southeast of a line extending from 15 miles southwest of the airport to 43 miles northeast of the airport. This provides controlled airspace to support aircraft operations under IFR as aircraft transition between the en route and airport environments.

Lastly, this action updates the airport's geographic coordinates for the associated Class D and E airspace areas to reflect the FAA's current aeronautical database, and replaces the outdated term “Airport/Facility Directory” with the term “Chart Supplement” in the Class D and Class E surface airspace legal descriptions. These modifications are necessary for the safety and management of IFR operations at the airport.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11B, Airspace Designations and Reporting Points, dated August 3, 2017, and effective September 15, 2017, is amended as follows:

ANM ID D Pocatello, ID [Amended]

Pocatello Regional Airport, ID

(Lat. 42°54′35″ N, long. 112°35′45″ W)

That airspace extending upward from the surface to and including 7,000 feet MSL within a 4.5-mile radius of Pocatello Regional Airport from the airport 195° bearing clockwise to the airport 168° bearing, and within a 5.6-mile radius of the airport from the airport 168° bearing clockwise to the airport 195° bearing. This Class D airspace area is effective during the specific dates and times established in advance by a Notice to Airmen. The effective date and time will thereafter be continuously published in the Chart Supplement.

Paragraph 6002 Class E Airspace Areas Designated as Surface Areas

* * * * *

ANM ID E2 Pocatello, ID [Amended]

Pocatello Regional Airport, ID

(Lat. 42°54′35″ N, long. 112°35′45″ W)

That airspace within a 4.5-mile radius of Pocatello Regional Airport from the airport 195° bearing clockwise to the airport 168° bearing, and within a 5.6-mile radius of the airport from the airport 168° bearing clockwise to the airport 195° bearing. This Class E airspace area is effective during the specific dates and times established in advance by a Notice to Airmen. The effective date and time will thereafter be continuously published in the Chart Supplement.

Paragraph 6004 Class E Airspace Areas Designated as an Extension to a Class D or Class E Surface Area

* * * * *

ANM ID E4 Pocatello, ID [Removed]

Paragraph 6005 Class E Airspace Areas Extending Upward From 700 feet or More Above the Surface of the Earth

* * * * *

ANM ID E5 Pocatello, ID [Amended]

Pocatello Regional Airport, ID

(Lat. 42°54′35″ N, long. 112°35′45″ W)

That airspace extending upward from 700 feet above the surface within 7.8 miles northwest and 5 miles southeast of the 045° bearing from Pocatello Regional Airport extending to 21 miles northeast of the airport, and within 7.8 miles northwest and 5 miles southeast of the 225° bearing from the airport extending to 10.8 miles southwest of the airport. That airspace extending upward from 1,200 feet above the surface within 15 miles northwest and 5 miles southeast of the 045° bearing from Pocatello Regional Airport extending to 43 miles northeast of the airport, and within 15 miles northwest and 5 miles southeast of the 225° bearing from the airport extending to 15 miles southwest of the airport.

Issued in Seattle, Washington, on April 23, 2018.
B. G. Chew,
Acting Manager, Operations Support Group, Western Service Center.

[FR Doc. 2018-09107 Filed 5-3-18; 8:45 am]

BILLING CODE 4910-13-P